POSTAL SERVICE

Revision to ZIP Code Zone Charts for APO/FPO/DPO Inbound Mail

AGENCY: Postal Service™.

ACTION: Notice.

SUMMARY: The Postal Service will rezone Inbound Mail from APO/FPO/DPO ZIP Codes to coordinate the Origin/Destination ZIP Codes with the designated International Service Centers (ISC) through which each originating ZIP Code dispatches mail.

DATES: Applicable: June 1, 2018.

FOR FURTHER INFORMATION CONTACT: Direct questions or comments to Kimberly G. Forehan by email at kimberly.g.forehan@usps.gov or phone (859) 447-2652.

SUPPLEMENTARY INFORMATION: Effective with the ZIP Code Zone Charts update on June 1, 2018, Inbound Mail from APO/FPO/DPO ZIP Codes will be rezoned to coordinate the Origin/Destination ZIP Codes with the designated International Service Centers (ISC) through which each originating ZIP Code dispatches mail. This means that mail being sent from the various APO/FPO/DPO ZIP codes will be realigned so that both outbound and inbound ZIPs will be paired with the areas they serve. The US Postal Service refers to these relationships as “reciprocal” or “retrograde” pairs. This is a change from the current process where Pacific ZIP Codes are zoned through the San Francisco ISC and the European ZIP Codes are zoned through the JFK ISC. After June 1, 2018, each of the five ISCs will be aligned with reciprocal pairs for inbound mail from APO/FPO/DPO ZIP Codes. This will result in a more accurate pricing model for Military customers mailing items back to the United States.

Ruth Stevenson,
Attorney, Federal Compliance.

[FR Doc. 2018-08360 Filed 4-20-18; 8:45 am]

BILLING CODE 7710-12-P